DEPARTMENT OF ENERGY

Federal Energy Regulatory Commission

[Docket No. PF06-18-000]

Questar Pipeline Company; Notice of Intent To Prepare an Environmental Assessment for the Proposed Southern System Expansion Project II, Request for Comments on Environmental Issues and Notice of Scoping Meeting

April 7, 2006.

The staff of the Federal Energy Regulatory Commission (FERC or Commission) will prepare an environmental assessment (EA) that will discuss the environmental impacts of Questar Pipeline Company's (Questar) planned Southern System Expansion Project II located in Utah, Carbon, Duchesne, and Uintah Counties, Utah. This notice announces the opening of the scoping process we ¹ will use to gather input from the public and interested agencies on the project. Your input will help the Commission staff determine which issues need to be evaluated in the EA. Please note that the scoping period will close on May 12, 2006.

¹ “We,” “us,” and “our” refer to the environmental staff of the Office of Energy Projects.

Comments may be submitted in written form or presented verbally at the public meeting detailed below. Further details on how to submit written comments are provided in the public participation section of this notice. In lieu of sending written comments, you are invited to attend the public scoping meeting that is scheduled as follows:

Wednesday, April 26, 2006, 7 p.m.

Holiday Inn Hotel & Suites, 838 Westwood Blvd., Price, UT 84501. (435) 637-8880.

This notice is being sent to affected landowners; Federal, State, and local government representatives and agencies; environmental and public interest groups; Native American tribes; other interested parties in this proceeding; and local libraries and newspapers. We encourage government representatives to notify their constituents of this planned project and encourage them to comment on their areas of concern.

Summary of the Proposed Project

Questar proposes to increase the capacity of its southern transmission system by approximately 170,000 dekatherms per day. More specifically, Questar seeks authority to:

• Construct approximately 53 miles of 24-inch-diameter pipeline and ancillary facilities to loop Questar's existing Main Line (ML) No. 40 by extending its ML 104 from its easternmost terminus at Soldier Creek in Carbon County to the Green River Block Valve in Uintah County;

• Construct approximately 5 miles of 24-inch-diameter pipeline to loop its ML 104 between its existing Oak Springs Compressor Station (Oak Springs) and Fausett Junction in Carbon County; and

• Restage/reconfigure Oak Springs and Questar's existing Blind Canyon Compressor Station (Blind Canyon) and modify other existing facilities, including yard and station piping, cooling equipment, valves and launcher/receiver facilities at Oak Spring, Blind Canyon, and Questar's Thistle Creek Compressor Station in Utah County.

• Seek the modification of metering and gas separation facilities by Kern River Gas Transmission Company (Kern River) at its interconnect with the ML 104 Pipeline near Goshen, Utah, which serves as a receipt point for volumes delivered by Questar to Kern River at this location.

Location maps depicting Questar's proposed facilities and alternate routes are provided in Appendix 1.²

² The appendices referenced in this notice are not being printed in the Federal Register. Copies are available on the Commission's Web site (excluding maps) at the “eLibrary” link or from the Commission's Public Reference Room or call (202) 502-8371. For instructions on connecting to eLibrary refer to the end of this notice. Copies of the appendices were sent to all those receiving this notice in the mail.

Currently Identified Environmental Issues

At this time no formal application has been filed with the FERC. For this project, the FERC staff has initiated its NEPA review prior to receiving the application. The purpose of our NEPA Pre-Filing Process is to involve interested stakeholders early in project planning and to identify and resolve issues before an application is filed with the FERC.

We have already identified several issues that we think deserve attention based on a preliminary review of the proposed facilities, environmental information provided by Questar, discussions with staff of the Bureau of Land Management, and comments gathered from concerned citizens at Questar's open house held on March 28, 2006. This preliminary list of issues may be changed based on your comments and our analysis.

• Potential effect on perennial streams and intermittent streams crossed by or close to the route;

• Potential effect on vegetation and wildlife resources, including critical big game ranges and sage grouse habitat;

• Potential effect on endangered and threatened species;

• Potential effect on historic and prehistoric sites;

• Potential effect on recreation and public interest areas, including traffic impacts along the Nine Mile Canyon Scenic Backcountry Byway;

• Potential visual effect of the pipeline corridor;

The EA Process

The FERC will use the EA to consider the environmental impact that could result if it issues Questar a Certificate of Public Convenience and Necessity.

This notice formally announces our preparation of the EA and the beginning of the process referred to as “scoping.” We are soliciting input from the public and interested agencies to help us focus the analysis in the EA on the potentially significant environmental issues related to the proposed action.

Our independent analysis of the issues will be included in an EA that will be prepared for the project. Our evaluation will also include possible alternatives to the proposed project or portions of the project, and we will make recommendations on how to lessen or avoid impacts on the various resource areas of concern.

The EA will be mailed to Federal, State, and local government agencies; elected officials; environmental and public interest groups; Native American tribes; affected landowners; other interested parties; local libraries and newspapers; and the FERC's official service list for this proceeding. A 30-day comment period will be allotted for review of the EA. We will consider all comments submitted on the EA in any Commission Order that is issued for the project.

We are currently involved in discussions with other jurisdictional agencies to identify their issues and concerns. These agencies include the U.S. Army Corps of Engineers, U.S. Fish and Wildlife Service, Bureau of Land Management, Divisions of Wildlife and Water Resources of the Utah Department of Natural Resources, Division of Water Quality of the Utah Department of Environmental Quality, and the Utah State Historic Preservation Office. By this notice, we are asking these and other Federal, State, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives and measures to avoid or lessen environmental impact. The more specific your comments, the more useful they will be. To ensure that your comments are timely and properly recorded, please mail your comments so that they will be received in Washington, DC, on or before May 12, 2006, and carefully follow these instructions:

• Send an original and two copies of your letter to: Magalie R. Salas, Secretary, Federal Energy Regulatory Commission, 888 First St., NE., Room 1A, Washington, DC 20426;

• Label one copy of the comments for the attention of Gas Branch 3, DG2E; and

• Reference Docket No. PF06-18-000 on the original and both copies.

Please note that the Commission encourages electronic filing of comments. See Title 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Questar submits its application for authorization to construct and operate the Southern System Expansion Project II, the Commission will publish a Notice of Application in the Federal Register and will establish a deadline for interested persons to intervene in the proceeding. Because the Commission's Pre-filing Process occurs before an application to begin a proceeding is officially filed, petitions to intervene during this process are premature and will not be accepted by the Commission.

Environmental Mailing List

If you wish to remain on the environmental mailing list, please return the Mailing List Retention Form included in Appendix 2. If you do not return this form, you will be taken off our mailing list.

Availability of Additional Information

Additional information about the project is available from the Commission's Office of External Affairs at 1-866-208 FERC (3372) or on the FERC Internet Web site (http://www.ferc.gov). Using the “eLibrary” link, select “General Search” from the eLibrary menu, enter the selected date range and “Docket Number” (i.e., PF06-18-000), and follow the instructions. Searches may also be done using the phrase “Southern System Expansion Project II” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, Questar has established an Internet Web site for its project at (http://www.questarssxpii.com). The Web site includes a project overview, contact information, regulatory overview, and construction procedures.

Magalie R. Salas,
Secretary.

[FR Doc. E6-5558 Filed 4-13-06; 8:45 am]

BILLING CODE 6717-01-P